ENVIRONMENTAL PROTECTION AGENCY

[FRL-8246-4]

Workshop on Interpretation of Epidemiologic Studies of Multipollutant Exposure and Health Effects

AGENCY: Environmental Protection Agency (EPA).

ACTION: Notice of Workshop.

SUMMARY: EPA is announcing that a workshop entitled, “Interpretation of Epidemiologic Studies of Multipollutant Exposure and Health Effects,” is being organized by EPA's National Center for Environmental Assessment, Office of Research and Development, to be held on December 13 and 14, 2006, in Research Triangle Park, NC. The workshop will be open to attendance by interested public observers on a first-come, first-served basis up to the limits of available space.

DATES: The workshop will be held on December 13 and 14, 2006.

ADDRESSES: The workshop will be held at the Sheraton Hotel in Chapel Hill, NC. An EPA contractor, SAIC, is organizing the workshop. For further information on the workshop, contact Kristin Wheeler, SAIC Conference Coordinator, 11251 Roger Bacon Drive, Reston, VA 20190, telephone: 703-318-4535; facsimile: 703-318-4755; e-mail: wheelerkr@saic.com.

FOR FURTHER INFORMATION CONTACT: Questions regarding information, registration, and logistics for the workshop should be directed to Kristin Wheeler, SAIC Conference Coordinator, 11251 Roger Bacon Drive, Reston, VA 20190, telephone: 703-318-4535; facsimile: 703-318-4755; e-mail: wheelerkr@saic.com. Questions regarding the workshop should be directed to Dr. Jee Young Kim, telephone: 919-541-4157; facsimile: 919-541-1818; e-mail: kim.jee-young@epa.gov.

SUPPLEMENTARY INFORMATION:

I. Summary of Information About the Project/Document

The U.S. Clean Air Act requires that EPA carry out periodic reviews of the National Ambient Air Quality Standards (NAAQS) for major “criteria” air pollutants and to revise the NAAQS for a given pollutant, as appropriate. As part of these reviews, the National Center for Environmental Assessment, within EPA's Office of Research and Development (ORD), assesses the newly available scientific information in Science Assessment documents (formerly known as Criteria Documents) that provide the scientific basis for the reviews of the NAAQS for particulate matter (PM), ozone (O3), carbon monoxide (CO), nitrogen oxides (NOX), sulfur oxides (SOx), and lead (Pb).

NCEA is holding this workshop to inform the Agency's evaluation of the science in the review of the NAAQS for all criteria pollutants. The workshop will address various issues involved in the interpretation of epidemiologic study results that are based on ambient air monitoring data. These include issues related to exposure assessment, multipollutant confounding and effect modification, statistical modeling and biological plausibility. Cross-cutting issues pertaining to evaluation of all of the criteria air pollutants will be examined, with emphasis to be placed on studies involving evaluation of multipollutant health risks.

This workshop is planned to advance interpretation and understanding of criteria air pollutant health effects analyses in population-level epidemiologic studies, with a focus on multi-pollutant exposures. The principal goals of this workshop are to: (1) Assess issues related to the interpretation of the epidemiologic literature, particularly related to the use of centrally located air quality monitors; (2) discuss new methodology and approaches to advance future epidemiologic research in the areas of exposure error, confounding and effect modification by copollutants, and statistical modeling; and (3) evaluate the extent to which evidence from human clinical and animal toxicologic studies aids in interpretation of findings observed in the epidemiologic literature.

II. Workshop Information

Members of the public may attend the workshop as observers. Space is limited, and reservations will be accepted on a first-come, first-served basis.

Dated: November 16, 2006.
George W. Alapas,
Deputy Director, National Center for Environmental Assessment.

[FR Doc. E6-19806 Filed 11-21-06; 8:45 am]

BILLING CODE 6560-50-P